DEPARTMENT OF VETERANS AFFAIRS

Genomic Medicine Program Advisory Committee; Notice of Establishment

As required by Section 9(a)(2) of the Federal Advisory Committee Act, the Department of Veterans Affairs hereby gives notice of the establishment of the Department of Veterans Affairs (VA) Genomic Medicine Program Advisory Committee. The Secretary of Veterans Affairs has determined that establishing the Committee is both necessary and in the public interest.

The Committee will provide advice to the Secretary of Veterans Affairs on the scientific and ethical issues related to the establishment, development, and operation of a genomic medicine program, and will make recommendations to utilize both genetic and other medical information in concert in order to promote optimal medical care and research that contributes to the Department's knowledge of diseases and disability. Specifically, the Committee will assess the potential impact of a VA genomic medicine program on existing VA patient care services, make recommendations regarding policies and procedures for tissue collection, storage and analysis, make recommendations on the development of a research agenda and recommend approaches by which research results can be incorporated into routine medical care.

Committee members shall be appointed by the Secretary of Veterans Affairs from among knowledgeable experts and veterans with special competence to evaluate the genomic medicine needs of the Department. The Committee shall report regularly to the Secretary of Veterans Affairs on its major activities and recommendations.

Dated: March 16, 2006.
By Direction of the Secretary.
E. Philip Riggin,
Committee Management Officer.

[FR Doc. 06-2786 Filed 3-21-06; 8:45 am]

BILLING CODE 8320-01-M